FEDERAL MARITIME COMMISSION

Ocean Maritime Intermediary License Revocation

The Federal Maritime Commission hereby gives notice that the following Ocean Transportation Intermediary license has been revoked pursuant to section 19 of the Shipping Act of 1984 (46 U.S.C. app. 1718) and the regulations of the Commission pertaining to the licensing of Ocean Transportation Intermediaries, effective on the corresponding date shown below:

License Number: 14011N.

Name: Inverfreight, Inc.

Address: 5901 N.W. 151 Street, Suite 102, Miami Lakes, FL 33014.

Date Revoked: June 14, 2001.

Reason: Failed to maintain a valid bond.

Sandra L. Kusumoto,
Director, Bureau of Consumer Complaints and Licensing.

[FR Doc. 01-21210 Filed 8-21-01; 8:45 am]

BILLING CODE 6730-01-P